FEDERAL COMMUNICATIONS COMMISSION

Notice of Public Information Collection(s) Being Reviewed by the Federal Communications Commission, Comments Requested

September 12, 2011.

SUMMARY: The Federal Communications Commission, as part of its continuing effort to reduce paperwork burden invites the general public and other Federal agencies to take this opportunity to comment on the following information collection(s), as required by the Paperwork Reduction Act (PRA) of 1995, 44 U.S.C. 3501-3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid OMB control number. No person shall be subject to any penalty for failing to comply with a collection of information subject to the Paperwork Reduction Act (PRA) that does not display a currently valid OMB control number.

DATES: Written Paperwork Reduction Act (PRA) comments should be submitted on or before November 18, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via e-mail to PRA@fcc.gov.

FOR FURTHER INFORMATION CONTACT: Judith B. Herman, Office of Managing Director, (202) 418-0214. For additional information, contact judith-b.herman@fcc.gov, OMD, 202-418-0214.

SUPPLEMENTARY INFORMATION: OMB Control Number: 3060-1151.

Title: Sections 1.1420, 1.1422, and 1.1424, Pole Attachment Access Requirements.

Form No.: N/A.

Type of Review: Extension of a currently approved collection.

Respondents: Business or other for-profit.

Number of Respondents and Responses: 1,278 respondents; 54,932 responses.

Estimated Time per Response: 1-600 hours.

Frequency of Response: On occasion reporting requirement, recordkeeping requirement and third party disclosure requirement.

Obligation To Respond: Mandatory. Statutory authority for this information collection is contained in 47 U.S.C. 224.

Total Annual Burden: 683,169 hours.

Total Annual Cost: N/A.

Privacy Act Impact Assessment: N/A.

Nature and Extent of Confidentiality: No confidentiality regarding recordkeeping or reporting. No known confidentiality between third parties.

Needs and Uses: The Commission is seeking OMB approval for an extension (no change in the reporting, recordkeeping and/or third party disclosure requirements.) There is no change in the Commission's burden estimates. The Commission received emergency OMB approval for this collection on June 21, 2011. This collection is now being submitted to OMB to secure the regular, three-year approval.

The rule sections are needed to implement the statutory mandate that communications companies (attachers) should be able to place facilities on utility poles. The rules set a series of deadlines or “timelines” to govern the process by which permission is sought by attachers and granted by utility pole owners. In practice, attachers must submit detailed applications that cause the utility to survey and perform an engineering analysis on the poles where access is requested.

The post-survey pole preparation work (make-ready) triggers further paperwork burdens. These include the pole owner notifying all known entities with existing attachments and the requesting attacher of the scheduled work. Other notification occurs if the make-ready period is interrupted, and if a pole owner asserts its right to one 15-day extension of time. Pole owners both perform make ready and coordinate with existing attachers over many weeks.

Also, the Order adopted rules intended to make the deadlines largely self-enforcing. Utilities are required to post a list of approved contractors. If a deadline is not met, new attachers may hire a listed, utility-approved contractor to perform pole attachment surveys or preparation in lieu of the utility using its own workers. If an attacher uses a utility-approved contractor, it must notify the utility, and invite the utility to send a representative to oversee the work. This self-enforcing mechanism removes some of the burden from the complaint process, which is often too slow to provide meaningful relief when pole access is denied or unreasonably delayed.

Finally, the Order also broadened the existing enforcement process by permitting incumbent local exchange carriers (LECs) to file complaints alleging that the attachment rates demanded by electric utilities are unreasonable. The Order also encourages incumbent LECs that benefit from lower pole attachment costs to file data at the Commission that demonstrates that the benefits are being passed on to consumers.

Federal Communications Commission.
Marlene H. Dortch,
Secretary, Office of the Secretary, Office of Managing Director.

[FR Doc. 2011-23954 Filed 9-16-11; 8:45 am]

BILLING CODE 6712-01-P